DEPARTMENT OF ENERGY

Federal Energy Regulatory Commission

Notice of Application for Amendment of License and Soliciting Comments, Motions To Intervene, and Protests

April 20, 2007.

Take notice that the following application has been filed with the Commission and is available for public inspection:

a. Application Type: Amendment of License to Modify Project Design.

b. Project No.: 11588-027.

c. Date Filed: January 26, 2007.

d. Applicant: Alaska Power and Telephone Company.

e. Name of Project: Kasidaya Creek Hydroelectric Project.

f. Location: On the Kasidaya Creek at Taiya Inlet, 3 miles south of the City of Scagway, and 12 miles northeast of the City of Haines, Alaska.

g. Filed Pursuant to: Federal Power Act, 16 U.S.C. 791a-825r.

h. Applicant Contact: Mr. Glen D. Martin, Alaska Power and Telephone Company, 193 Otto Street, Port Townsend, WA 98368. Phone (360) 385-1733.

i. FERC Contact: Anumzziatta Purchiaroni at (202) 502-6191, and e-mail: Anumzziatta.Purchiaroni@ferc.gov.

j. Deadline for filing comments, motions to intervene, and protest: May 21, 2007.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: The licensee proposes to: (1) Move the diversion structure about 54 feet downstream from the authorized location, and change the height of the structure from 10 to 15 feet, which would change the surface area of the impoundment from 0.25 to about 0.30 acre, and its volume from 1.0 to 1.1 acre-feet; (2) extend the access road about 800 feet on the north side of Kasidaya Creek, cross over the creek with a 50-foot-long modular bridge, and then construct an additional 400 feet of road on the south side of the creek, to access the diversion structure; (3) instead of the authorized 675 foot-long tunnel between the diversion structure and the penstock, install a penstock that would be buried adjacent to the proposed extended access road; (4) install a pneumatic-operated gate instead of a spillway with a fixed concrete crest; (5) eliminate the quay at the marine access facilities; and (6) decrease the length of the jetty from 250 to 200 feet. The corridor of the proposed extension of the access road and penstock would be in the same vicinity of the upper segment of penstock that was originally proposed under the license. These modifications would require changing the amount of federal lands occupied by the project from 11.05 acres to 12.14 acres.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-7985 Filed 4-25-07; 8:45 am]

BILLING CODE 6717-01-P